DEPARTMENT OF THE INTERIOR

Fish and Wildlife Service

Notice of Availability of an Environmental Assessment and Receipt of a Safe Harbor Application To Enhance the Propagation and Survival of the Black-Capped Vireo and the Golden-Cheeked Warbler in the Hill Country of Texas

SUMMARY: Environmental Defense, Inc. (Applicant) has applied to the U.S. Fish and Wildlife Service (Service) for an enhancement of survival permit pursuant to Section 10(a)(1)(A) of the Endangered Species Act (Act) of 1973, as amended. The Applicant has been assigned permit number TE-024875-0. The requested permit, which is for a period of 30 years, would authorize the Applicant to issue certificates of inclusion under a Safe Harbor agreement to private landowners who voluntarily agree to carry out habitat improvements for the black-capped vireo (Vireo atricapillus) and/or the golden-cheeked warbler (Dendroica chrysoparia) in various counties in central Texas Hill Country.

Habitat enhancement activities could occur in any or all of the following 25 counties: Bandera, Bell, Blanco, Bosque, Brown, Burnet, Comal, Comanche, Coryell, Edwards, Gillespie, Hays, Kendall, Kerr, Kimble, Lampasas, Llano, Mason, Medina, Real, San Saba, Somervell, Sutton, Uvalde, and Williamson. Habitat enhancement activities could include, but are not limited to, prescribed burning, selective Ashe juniper thinning, rotational grazing, cowbird trapping, and hardwood regeneration.

The Service has prepared an Environmental Assessment (EA) for the application. A determination of jeopardy to the species or a Finding of No Significant Impact (FONSI) will not be made until at least 30 days from the date of publication of this notice. This notice is provided pursuant to Section 10(c) of the Act and National Environmental Policy Act regulations (40 CFR 1506.6).

DATES: Written comments on the application should be received by the Service on or before May 25, 2000. The application, along with any supporting documentation, is available for public review, subject to the requirements of the Privacy Act and Freedom of Information Act, by any party who submits a written request for a copy of such documents within the comment period to the address specified below.

ADDRESSES: Persons wishing to review the application may obtain copies by written request to the U.S. Fish and Wildlife Service, Austin Ecological Service Field Office, 10711 Burnet Road, Suite 200, Austin, Texas 78758 (512/490-0057). The application will also be available for public inspection, by appointment, during normal business hours (8:00 am to 4:30 pm) at the Service's Austin Ecological Services Field Office. During the 30-day public comment period, written comments or data should be submitted to the Field Supervisor at the above address. Please refer to the application for the Texas Hill Country and reference permit number TE-024875-0 when submitting comments. All comments received, including names and addresses, will become a part of the official administrative record and may be made available to the public.

FOR FURTHER INFORMATION CONTACT: Ms. Krishna Costello at the above Austin U.S. Fish and Wildlife Service Field Office.

Background

The black-capped vireo (vireo) and the golden-cheeked warbler (warbler) were listed as endangered in November 1987 and May 1990, respectively. The vireo and warbler are migratory songbirds that occupy breeding habitat in Texas from about March 1-August 31. The vireo requires early successional stage, patchy-island habitat of wooded areas with shrubs up to about 6 feet tall surrounded by grasslands. Warbler habitat is mixed, closed-canopy woodland with mature Ashe juniper and oaks.

Approximately ninety-seven percent of the land in Texas is privately owned, and a large majority of existing and restorable vireo and warbler habitat falls into this category. Therefore, the participation of private landowners in the recovery of these two species is very important.

Landowners having currently unoccupied and/or unsuitable, but restorable, habitat and thus a zero baseline condition for the Safe Harbor, would be eligible for certificates of inclusion. Exceptions to the zero baseline may also be included for certificates under very limited circumstances with concurrence from the Service. Upon completion and maintenance of the habitat improvements for at least four breeding seasons, the landowners would be permitted to conduct any otherwise lawful activity on their property, including activities that result in the partial or total elimination of the restored habitat and the incidental taking of either of these species as a result of such habitat elimination.

SUPPLEMENTARY INFORMATION: Section 9 of the Act prohibits the “taking” of endangered species, such as the black-capped vireo and golden-cheeked warbler. However, the Service, under limited circumstances, may issue permits to take endangered wildlife species incidental to, and not the purpose of, otherwise lawful activities. Regulations governing permits for endangered species are at 50 CFR 17.22.

The authority for this action is the Endangered Species Act of 1973, as amended, through its permitting provisions (50 CFR parts 13 & 17).

Geoffrey L. Haskett,
Regional Director, Region 2, Albuquerque, New Mexico.

[FR Doc. 00-9357 Filed 4-24-00; 8:45 am]

BILLING CODE 4510-55-P